CHEMICAL SAFETY AND HAZARD INVESTIGATION BOARD

Agency Information Collection Activities; Proposals, Submissions, and Approvals: CSB Accidental Release Reporting Form

AGENCY: U.S. Chemical Safety and Hazard Investigation Board (CSB).

ACTION: 60-Day notice of submission of information collection request (ICR) renewal approval and request for comments.

SUMMARY: The proposed information collection request (ICR) renewal described below will be submitted to the Office of Management and Budget (OMB) for review, as required by the Paperwork Reduction Act of 1995. The Chemical Safety Board (CSB) is soliciting public comments on this proposed collection renewal.

DATES: Comments should be sent no later than 5 p.m. EDT on Friday, April 28, 2023.

ADDRESSES: Requests for information, including copies of the information collection proposed and supporting documentation should be directed to: Tamara Qureshi, Assistant General Counsel, U.S. Chemical Safety and Hazard Investigation Board, 1750 Pennsylvania Ave. NW, Suite 910, Washington, DC, 20006 or at report@csb.gov.

FOR FURTHER INFORMATION CONTACT: Tamara Qureshi, telephone: 202-261-7600, email: report@csb.gov.

SUPPLEMENTARY INFORMATION:

Title: CSB Accidental Release Reporting Form.

OMB Control Number: 3301-0001.

Expiration Date of Approval: 04-30-2023.

Type of Request: Renewal.

Abstract

The enabling statute of the Chemical Safety and Hazard Investigation Board (CSB) provides that the CSB shall establish by regulation requirements binding on persons for reporting accidental releases into the ambient air subject to the Board's investigative jurisdiction. The CSB published its Accidental Reporting Rule (40 CFR part 1604) on February 21, 2020. This final rule is intended to satisfy the CSB's statutory requirement. The rule describes when an owner or operator is required to file a report of an accidental release, and the required content of such a report. The purpose of the rule is to ensure that the CSB receives rapid, accurate reports of any accidental release that meets established statutory criteria.

In conjunction with the Accidental Release Reporting Rule, the CSB also developed a form to capture the information necessary to initially assess an accidental release. The form is located on CSB's website: https://www.csb.gov/news/incident-report-rule-form-/.

Type of Respondents

The vast majority of respondents will be private sector businesses involved in the production, storage or handling of regulated substances or extremely hazardous substances.

Estimate Annual Number of Respondents: 100.

Frequency of Use

On occasion. Most respondents will only submit a response if an accidental release within the scope of the rule occurs during a given year. For the vast majority of potential respondents, the frequency of responses will likely be “none” in a given year.

Small Businesses or Organizations Affected

No. At the time of the rulemaking, the CSB determined that the rule would not have an impact on businesses, including small businesses. Furthermore, there have been even less reports than originally predicted.

Estimated Number of Annual Responses: 100.

Estimated Average Burden Hours per Response: 0.25 hour. The CSB acknowledges that there may be additional burdens on the public that are not quantifiable.

Estimated Total Annual Burden Hours: 25 hours.

Need for and Use of Information:

The CSB is required by law to issue an accidental release reporting rule. The CSB intends to use the information to learn of any accidental release within its jurisdiction and to plan how to respond to that accidental release.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: February 24, 2023.
Tamara Qureshi,
Assistant General Counsel, Chemical Safety and Hazard Investigation Board.

[FR Doc. 2023-04234 Filed 2-28-23; 8:45 am]

BILLING CODE 6350-01-P